DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for a project in Miami-Dade County, Florida. The purpose of this notice is to announce publicly the environmental decisions by FTA on the subject project and to activate the limitation on any claims that may challenge this final environmental action.

DATES: By this notice, FTA is advising the public of final agency actions subject to Section 139(l) of Title 23, United States Code (U.S.C.). A claim seeking judicial review of FTA actions announced herein for the listed public transportation projects will be barred unless the claim is filed on or before August 20, 2018.

FOR FURTHER INFORMATION CONTACT: Nancy-Ellen Zusman, Assistant Chief Counsel, Office of Chief Counsel, (312) 353-2577 or Alan Tabachnick, Environmental Protection Specialist, Office of Environmental Programs, (202) 366-8541. FTA is located at 1200 New Jersey Avenue SE, Washington, DC 20590. Office hours are from 9:00 a.m. to 5:00 p.m., Monday through Friday, except Federal holidays.

SUPPLEMENTARY INFORMATION: Notice is hereby given that FTA has taken final agency action by issuing a certain approval for the public transportation project listed below. The actions on the project, as well as the laws under which such actions were taken, are described in the documentation issued in connection with the project to comply with the National Environmental Policy Act (NEPA) and in other documents in the FTA administrative record for the project. Interested parties may contact either the project sponsor or the FTA Regional Office for more information. Contact information for FTA's Regional Offices may be found at https://www.fta.dot.gov.

This notice applies to all FTA decisions on the listed project as of the issuance date of this notice and all laws under which such actions were taken, including, but not limited to, NEPA [42 U.S.C. 4321-4375], Section 4(f) requirements [23 U.S.C. 138, 49 U.S.C. 303], Section 106 of the National Historic Preservation Act [16 U.S.C. 470f], and the Clean Air Act [42 U.S.C. 7401-7671q]. This notice does not, however, alter or extend the limitation period for challenges of project decisions subject to previous notices published in the Federal Register. The project and action that is the subject of this notice follow:

Project name and location: Miami Intermodal Center Capacity Improvement Project, Miami-Dade County, Florida. Project Sponsor: South Florida Regional Transportation Authority (SFRTA). Project description: The project provides an additional mainline track within the South Florida Rail Corridor (SFRC) from north of Hialeah Market Tri-Rail Station to the Tri-Rail Miami Airport Station, located within the Miami Intermodal Center. The project also includes replacement of the existing bascule bridge over the Miami River with a new fixed double track bridge to be installed slightly to the west of the existing bridge. Improvements will also be made to the existing Hialeah Market Tri-Rail Station, including construction of a new 400-foot center platform passenger boarding area to the east of the existing track with a continuous canopy and at-grade pedestrian crossing. Final agency actions: Section 4(f) determination, dated January 12, 2018; Section 106 finding of adverse effect dated April 10, 2017; A Section 106 Memorandum of Agreement, dated January 12, 2018; project-level air quality conformity, and a Finding of No Significant Impact, dated January 12, 2018. Supporting documentation: Environmental Assessment dated April 1, 2016.

Elizabeth S. Riklin,
Deputy Associate Administrator Planning and Environment.

[FR Doc. 2018-05762 Filed 3-21-18; 8:45 am]

BILLING CODE P